DEPARTMENT OF HEALTH AND HUMAN SERVICES

Administration for Children and Families

Request for Public Comment on Contracting for the Performance of Title IV-E Administrative Functions

AGENCY: Administration on Children, Youth and Families (ACYF), ACF, DHHS.

ACTION: Notice of request for public comment.

SUMMARY: The Children's Bureau, in the Administration on Children, Youth and Families, administers the title IV-E program which providers funds to States to assist in meeting the needs of certain children who are removed from their homes and placed in foster care. Federal financial participation (FFP) is available for a portion of the costs States incur in operating the foster care maintenance payments program.

We have received a number of inquiries regarding the requirements and/or restrictions associated with State's contracting for the performance of title IV-E administrative functions. In light of the range and complexity of the questions posed by States, we would like to examine the issues raised more closely. This notice invites public comment on State practices in contracting for the performance of title IV-E administrative functions. Based on comments received, we will determine the need for additional guidance related to contracting for the performance of specific title IV-E administrative functions.

Section 471(a)(5) of the Social Security Act requires States to “ * * * use such methods relating to the establishment and maintenace of personnel standards on a merit basis * * *” Under a merit system of personnel administration, certain administrative functions must be performed by State agency employees. Functions that must be retained by the State agency are referred to as “inherently governmental.” Office of Management and Budget Circular A-76, “Performance of Commercial Activities,” defines “inherently governmental functions,” i.e., those that must be performed by government employees, as “* * * those activities which require either the exercise of discretion in applying Governmental authority or the use of value judgment in making decisions for the Government * * *” The determination of a child's eligibility for title IV-E is, for example, an inherently governmental function.

We are requesting that respondents express their views with regard to how the legal prohibition against contracting out inherently governmental functions is consistent with, and its implications for, existing State practice, as well as plans for future contracting. It would assist our decision-making if respondents from State child welfare agencies would identify which, if any, title IV--E administrative functions the State currently contracts out. Please identify those considerations you would like us to take in developing additional policy guidance, in the event we determine it is warranted.

DATES: In order to be considered, written comments in response to this Notice must be received September 18, 2000.

ADDRESSES: Please address written comments to: Kathy McHugh, Director of Policy, Children's Bureau, Administration on Children Youth and Families, 330 C Street, SW., Room 2411, Washington, DC 20447. Comments will not be accepted electronically, by telephone, or by fax.

FOR FURTHER INFORMATION CONTACT: Joe Bock, Child Welfare Program Specialist Children's Bureau, Administration on Children, Youth, and Families at (202) 205-9632.

Dated: August 10, 2000.
Patricia Montoya,
Commissioner, Administration on Children, Youth and Families.

[FR Doc. 00-20857 Filed 8-16-00; 8:45 am]

BILLING CODE 4184-01-M